DEPARTMENT OF AGRICULTURE

Forest Service

Forest Transportation System; Interim Direction

AGENCY: Forest Service, USDA.

ACTION: Notice; request for comment.

SUMMARY: On January 12, 2001, corollary with adopting revisions to the Transportation System rules at 36 CFR part 212, the Forest Service adopted a revised administrative policy to guide transportation planning, analysis, and management, especially road management in the National Forest System. Following intensive training of field employees on implementing the new policy, the agency has determined that allowing only a six-month period, ending July 12, 2001, to prepare for use of the roads analysis process is insufficient. Also, the agency has concluded that decisions to extend the deadline for completing forest-scale roads analyses are best made on a case-by-case basis by the Regional Forester, not the Chief. These changes are embodied in Interim Directive No. 7710-2001-1 which the Chief signed on May 25, 2001. Because of the impending July 12, 2001, deadline, and the need for orderly adjustments in the local programs of work, it was not practicable to solicit public comment prior to implementing this Interim Directive. However, public comments are now invited and will be considered in developing any final policy.

DATES: Interim Directive No. 7710-2001-1 became effective May 31, 2001. Comments must be submitted on or before October 23, 2001.

ADDRESSES: Written comments concerning this Interim Directive (ID) should be sent to USFS CAT, Attention: Road Policy, P.O. Box 22914, Salt Lake City, UT, 84122; via email to roads_id@fs.fed.us; or via facsimile to 801-517-1021, Attention: Road Policy.

FOR FURTHER INFORMATION CONTACT: Mike Ash, Deputy Director, Engineering Staff, 703-605-4646.

SUPPLEMENTARY INFORMATION:

Current Rule and Policy

The Forest Service Road Management policy initiative resulted in adoption of a final rule at 36 CFR part 212, on January 12, 2001 (66 FR 3219). This rule directs the Responsible Official of each national forest, national grassland, experimental forest, and any other unit of the National Forest System to perform a comprehensive roads analysis on the transportation system within that unit and to document the forest transportation system in a transportation atlas. Concurrent with the rule, the Forest Service implemented an administrative policy that gives Forest Service employees more detailed instruction on building the road atlas and conducting road analyses. Issued as an amendment to Forest Service Manual Chapters 7700 Zero Code and 7710, the policy directs that decisions and final forest plan revisions or amendments adopted after July 12, 2001, must be informed by a roads analysis.

Need for Revision

Since adoption of the policy on January 12, 2001, the Forest Service has provided almost 1,000 employees in-depth training on how to conduct the roads analysis process and how to build the road atlas. Subsequently, many managers have informed the Chief's office that the deadlines for compliance are unworkable considering the level of detail, the variety of information required, and the amount of training necessary before the analysis can begin. Moreover, conducting roads analysis is often not compatible with meeting routine seasonal workload demands, especially in light of the need for restoration work after last year's devastating fire season. For these reasons, the Chief has determined that it is necessary to extend the deadline by which project and plan decisions must be informed by roads analysis from July 12, 2001, to January 12, 2002.

The administrative direction in FSM 7710 also directs all Forest Service units to complete a forest-scale roads analysis of their entire transportation system by January 12, 2003. As adopted, the policy provided that extensions to that deadline could be approved only by the Chief of the Forest Service. Requiring that only the Chief can approve extensions for completing the forest-scale roads analysis is not only inefficient but also inconsistent with the Chief's goal of encouraging and relying on local expertise and authority over forest-level issues as much as possible. The Chief has reconsidered this reservation of authority and concluded that Regional Foresters, to whom Forest Supervisors report, are in a better position to make judgments about local forest programs of work than the office of the Chief. Therefore, the Chief has redelegated to the Regional Foresters the authority to approve requests for extensions of forest-scale roads analysis beyond January 12, 2003. These changes have been issued in an Interim Directive to Forest Service Manual Chapter 7710, the text of which appears at the end of this notice.

Conclusion

The Forest Service is committed to providing adequate opportunities for the public to comment on all administrative directives that are of substantial public interest or controversy. However, because of the impending July 12, 2001, deadline, it was important to provide Forest Service units with sufficient advance notice of the changes so that they can adjust their plans of work in an orderly way. Accordingly, the agency issued the Interim Directive and made it effective immediately. However, as provided for in 36 CFR 216.7, the Forest Service is also requesting public comment on the Interim Directive. All comments will be reviewed and considered in determining a final policy.

Dated: June 28, 2001.
Dale N. Bosworth,
Chief.

Note: The Forest Service organizes its directive system by alphanumeric codes and subject headings. Only those sections of the FSM that are the subject of this notice are set forth here. Those who wish to see the entire chapter to which the Interim Direction (ID) applies may do so at http://www.fs.fed.us/im/directives.

FSM 7700—Transportation System

Chapter 7710—Transportation Atlas, Records, and Analysis

Interim Directive No.: 7710-2001-1.

Effective Date: May 31, 2001.

Duration: This interim directive expires on 11/30/2002.

Approved: Dale N. Bosworth, Chief.

Date Approved: 5/25/2001.

Posting Instructions: Interim directives are numbered consecutively by title and calendar year. Post by document at the end of the chapter. Retain this transmittal as the first page(s) of this document. The last interim directive was 7710-99-2 to FSM 7710.

New Document | idX7710-2001-1 | 2 Pages
Superseded Document(s) (Interim Directive Number and Effective Date) | None

Digest:

7710.42—Delegates to the Regional Forester the responsibility previously reserved to the Chief to approve a Forest Supervisor request for additional time to complete forest-scale roads analysis (para. 6).

7712.15—Extends the deadlines for requiring roads analysis for road management decisions (para. 1a and 1b) and forest plan revisions or amendments (para. 2a) from July 12, 2001, to January 12, 2002. For clarity, subdivides paragraph 2a (as it appears in Amendment No. 7700-2001-2) into two paragraphs to distinguish deadlines applicable to those units that will complete a plan revision or amendments by January 12, 2002 (para. 2a) from those that have begun such amendments or revisions but will not be completed by January 12, 2002 (para. 2b). In new paragraph 2c (formerly para. 2b), permits Forest Supervisors to request that the Regional Forester grant an extension for completion of forest-scale roads analysis.

FSM 7700—Transportation System

Chapter 7710—Transportation Atlas, Records, and Analysis

7710.42—Regional Forester

6. Authority to approve, on a case-by-case basis, Forest Supervisor requests for additional time to complete forest-scale roads analysis.

7712.15—Deadlines for Completing Roads Analysis

1. Analysis Needed to Inform Road Management Decisions. Section 7712.13 identifies proposed road management decisions other than forest plan revisions or amendments that require roads analysis and provides guidance on the scope and scale of various levels of analysis that might inform those decisions. The following deadlines govern the application of roads analysis to the proposed road management decisions identified in sections 7712.13 through 7712.13c:

a. Decisions made before January 12, 2002, do not require a roads analysis.

b. Decisions made after January 12, 2002, must be informed by a roads analysis.

2. Forest-Scale Road Analyses. Every National Forest System administrative unit must have a forest-scale roads analysis completed by January 13, 2003, except as follows:

a. Those units that will complete a forest plan revision or amendment by January 12, 2002, do not need to complete a forest-scale roads analysis (FSM 7712.1) prior to adopting the plan revision or amendment. However, these units are still required to complete a forest-scale roads analysis by January 13, 2003.

b. Those units that have begun revision or amendment of their forest plans but will not adopt a final revision or final amendment by January 12, 2002, must complete a roads analysis prior to adoption of the final plan revision or amendment.

c. Where additional time is needed for completion of forest-scale roads analysis, a Forest Supervisor may request approval from the Regional Forester for an extension. In making such a request, the Forest Supervisor must provide a statement of the reason(s) the extension is needed.

[FR Doc. 01-21464 Filed 8-23-01; 8:45 am]

BILLING CODE 3410-11-U